DEPARTMENT OF THE INTERIOR

Fish and Wildlife Service

[FW-HQ-BHC-2016-N158; FXMB12330900000-156-FF09M10000]

Proposed Information Collection; Electronic Duck Stamp Program

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on December 31, 2016. We may not conduct or sponsor and a person is not required to respond to a collection of information unless it displays a currently valid OMB control number.

DATES: To ensure that we are able to consider your comments on this IC, we must receive them by November 21, 2016.

ADDRESSES: Send your comments on the IC to the Information Collection Clearance Officer, U.S. Fish and Wildlife Service, MS BPHC, 5275 Leesburg Pike, Falls Church, VA 22041-3803 (mail); or tina_campbell@fws.gov (email). Please include “1018-0135” in the subject line of your comments.

FOR FURTHER INFORMATION CONTACT: To request additional information about this IC, contact Tina Campbell at tina_campbell@fws.gov (email) or 703-358-2676 (telephone).

SUPPLEMENTARY INFORMATION:

I. Abstract

On March 16, 1934, President Roosevelt signed the Migratory Bird Hunting Stamp Act (16 U.S.C. 718a et seq.) requiring all migratory waterfowl hunters 16 years of age or older to buy a Federal migratory bird hunting and conservation stamp (Federal Duck Stamp) annually. The stamps are a vital tool for wetland conservation. Ninety-eight cents out of every dollar generated by the sale of Federal Duck Stamps goes directly to purchase or lease wetland habitat for protection in the National Wildlife Refuge System. The Federal Duck Stamp is one of the most successful conservation programs ever initiated and is a highly effective way to conserve America's natural resources. Besides serving as a hunting license and a conservation tool, a current year's Federal Duck Stamp also serves as an entrance pass for national wildlife refuges where admission is charged. Duck Stamps and products that bear stamp images are also popular collector items.

The Electronic Duck Stamp Act of 2005 (Pub. L. 109-266) required the Secretary of the Interior to conduct a 3-year pilot program under which States could issue electronic Federal Duck Stamps. The electronic stamp is valid for 45 days from the date of purchase and can be used immediately while customers wait to receive the actual stamp in the mail. After 45 days, customers must carry the actual Federal Duck Stamp while hunting or to gain free access to national wildlife refuges. Eight States participated in the pilot. At the end of the pilot, we provided a report to Congress outlining the successes of the program. The program improved public participation by increasing the ability of the public to obtain required Federal Duck Stamps.

Under the authority provided by the Permanent Electronic Duck Stamp Act of 2013 (H.R. 1206), we continue the Electronic Duck Stamp Program in the 19 States that participate currently. We plan to expand the program by inviting all State fish and wildlife agencies to participate. Anyone, regardless of State residence, may purchase an electronic Duck Stamp through any State that participates in the program. Interested States must submit an application (FWS Form 3-2341). We will use the information provided in the application to determine a State's eligibility to participate in the program. Information includes, but is not limited to:

• Current systems the State uses to sell hunting, fishing, and other associated licenses and products.

• Applicable State laws, regulations, or policies that authorize the use of electronic systems to issue licenses.

• Example and explanation of the codes the State proposes to use to create and endorse the unique identifier for the individual to whom each stamp is issued.

• Mockup copy of the printed version of the State's proposed electronic stamp, including a description of the format and identifying features of the licensee to be specified on the stamp.

• Description of any fee the State will charge for issuance of an electronic stamp.

• Description of the process the State will use to account for and transfer the amounts collected by the State that are required to be transferred under the program.

• Manner by which the State will transmit electronic stamp customer data.

Each State approved to participate in the program must provide the following information on a weekly basis:

• First name, last name, and complete mailing address of each individual that purchases an electronic stamp from the State.

• Face value amount of each electronic stamp sold by the State.

• Amount of the Federal portion of any fee required by the agreement for each stamp sold.

II. Data

OMB Control Number: 1018-0135.

Title: Electronic Duck Stamp Program.

Service Form Number: 3-2341.

Type of Request: Extension of a previously approved collection.

Description of Respondents: State fish and wildlife agencies and individuals.

Respondent's Obligation: Required to obtain or retain a benefit.

Frequency of Collection: One time for application; weekly for fulfillment reports.

Activity | Number of responses | Completion time per response (hours) | Total annual burden hours
Application | 10 | 40 | 400
Fulfillment Report | 1,508 | 1 | 1,508
Totals | 1,518 |  | 1,908

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: September 14, 2016.
Tina A. Campbell,
Chief, Division of Policy, Performance, and Management Programs, U.S. Fish and Wildlife Service.

[FR Doc. 2016-22544 Filed 9-19-16; 8:45 am]

BILLING CODE 4333-15-P